DEPARTMENT OF TRANSPORTATION

Federal Aviation Administration

14 CFR Part 39

[Docket No. FAA-2020-1175; Product Identifier 2018-SW-071-AD; Amendment 39-21563; AD 2021-11-01]

RIN 2120-AA64

Airworthiness Directives; Bell Textron Canada Limited Helicopters

AGENCY: Federal Aviation Administration (FAA), DOT.

ACTION: Final rule.

SUMMARY: The FAA is superseding Airworthiness Directive (AD) 2013-20-13 for certain Bell Helicopter Textron Canada Limited (now Bell Textron Canada Limited) (Bell) Model 206B and 206L helicopters. AD 2013-20-13 required installing a placard beneath the engine power dual tachometer and revising the Operating Limitations section of the existing Rotorcraft Flight Manual (RFM) for your helicopter. This AD was prompted by the engine manufacturer expanding the RPM (N2) steady-state operation avoidance range limits. This AD retains certain requirements of AD 2013-20-13, and requires revising certain sections of the existing RFM for your helicopter and installing or replacing a placard. The FAA is issuing this AD to address the unsafe condition on these products.

DATES: This AD is effective July 15, 2021.

The Director of the Federal Register approved the incorporation by reference of certain publications listed in this AD as of July 15, 2021.

ADDRESSES: For service information identified in this final rule, contact Bell Textron Canada Limited, 12,800 Rue de l'Avenir, Mirabel, Quebec J7J1R4; telephone (450) 437-2862 or (800) 363-8023; fax (450) 433-0272; or at https://www.bellcustomer.com. You may view this service information at the FAA, Office of the Regional Counsel, Southwest Region, 10101 Hillwood Pkwy., Room 6N-321, Fort Worth, TX 76177. For information on the availability of this material at the FAA, call (817) 222-5110. Service information that is incorporated by reference is also available on the internet at https://www.regulations.gov by searching for and locating Docket No. FAA-2020-1175.

Examining the AD Docket

You may examine the AD docket at https://www.regulations.gov by searching for and locating Docket No. FAA-2020-1175; or in person at Docket Operations between 9 a.m. and 5 p.m., Monday through Friday, except Federal holidays. The AD docket contains this final rule, the Transport Canada AD, any comments received, and other information. The street address for Docket Operations is U.S. Department of Transportation, Docket Operations, M-30, West Building Ground Floor, Room W12-140, 1200 New Jersey Avenue SE, Washington, DC 20590.

FOR FURTHER INFORMATION CONTACT: Michael Hughlett, Aviation Safety Engineer, General Aviation & Rotorcraft Section, International Validation Branch, FAA, 10101 Hillwood Pkwy., Fort Worth, TX 76177; telephone (817) 222-5889; email Michael.Hughlett@faa.gov.

SUPPLEMENTARY INFORMATION:

Background

The FAA issued a notice of proposed rulemaking (NPRM) to amend 14 CFR part 39 to supersede AD 2013-20-13, Amendment 39-17619 (78 FR 66252, November 5, 2013), (AD 2013-20-13). AD 2013-20-13 applied to Bell Model 206B helicopters, serial number (S/N) 004 through 4675, including helicopters converted from Model 206A; and Bell Model 206L helicopters, S/N 45001 through 45153, and 46601 through 46617. The NPRM published in the Federal Register on March 11, 2021 (86 FR 13828). The NPRM proposed to require, within 25 hours time-in-service (TIS), revising the Operating Limitations and the Normal Procedures sections of the existing RFM for your helicopter and installing or replacing a placard. The NPRM was prompted by a determination from the manufacturers that the steady-state operation avoidance range limits needed to be expanded, amendments to the RFM needed to be incorporated, and a new placard (decal) needed to be installed.

Transport Canada AD CF-2018-23, dated August 22, 2018 (AD CF-2018-23), issued by Transport Canada, which is the aviation authority for Canada, corrects an unsafe condition for Bell Model 206B series helicopters including those converted from Model 206A, S/Ns up to 4690, and model 206L series helicopters, S/Ns 45001 through 45153 and 46601 through 46617. Transport Canada advises that Rolls Royce has expanded the RPM (N2) steady-state operation avoidance range limits due to several failures of the third stage turbine wheel. According to Transport Canada, Rolls Royce determined that detrimental vibrations could occur within a particular range of turbine speeds, which may be a contributing factor to these failures. Bell has also amended the RFMs and the engine starting procedures for RPM (N2) and provided a new decal (placard) to inform pilots to avoid steady-state operations at those engine turbine speeds. This condition, if not addressed, could result in turbine failure, engine power loss, and subsequent loss of control of the helicopter.

Accordingly, Transport Canada AD CF-2018-23 requires incorporating the amended RFM power plant operating limitations and engine starting procedures for RPM (N2) steady-state operation and installing a new decal.

Discussion of Final Airworthiness Directive

Comments

The FAA received no comments on the NPRM or on the determination of the costs.

Conclusion

These helicopters have been approved by the aviation authority of Canada and are approved for operation in the United States. Pursuant to the FAA's bilateral agreement with Canada, Transport Canada, its technical representative, has notified the FAA of the unsafe condition described in its AD. The FAA reviewed the relevant data and determined that air safety requires adopting this AD as proposed. Accordingly, the FAA is issuing this AD to address the unsafe condition on these helicopters.

Related Service Information Under 1 CFR Part 51

The FAA reviewed the following service information, which contains revised operating limitations and engine starting instructions:

• Section 1, Operating Limitations, page 1-2A, of Bell Model 206B RFM BHT-206B-FM-1, Revision B-54, dated May 30, 2018 (BHT-206B-FM-1).

• Section 2, Normal Procedures, page 2-8 of BHT-206B-FM-1.

• Section 1, Limitations, page 1-5, of Bell Model 206B3 RFM BHT-206B3-FM-1, Revision 17, dated May 30, 2018 (BHT-206B3-FM-1).

• Section 2, Normal Procedures, page 2-10 of BHT-206B3-FM-1.

• Section 1, Operating Limitations, page 1-4B, of Bell Model 206L RFM BHT-206L-FM-1, Revision 31, dated May 30, 2018 (BHT-206L-FM-1).

• Section 2, Normal Procedures, page 2-10 of BHT-206L-FM-1.

This service information is reasonably available because the interested parties have access to it through their normal course of business or by the means identified in the ADDRESSES section.

Other Related Service Information

The FAA reviewed Bell Alert Service Bulletin (ASB) 206-07-115, Revision D, for Model 206A and 206B helicopters, and ASB 206L-07-146, Revision C, for Model 206L helicopters, each dated July 9, 2018. This service information contains procedures for installing a decal (placard) on the instrument panel below the Nr/N2 RPM dual tachometer indicator and inserting the RFM changes into the RFM.

Differences Between This AD and the Transport Canada AD

The Transport Canada AD requires compliance within 30 calendar days, while this AD requires compliance within 25 hours TIS.

Costs of Compliance

The FAA estimates that this AD affects 934 helicopters of U.S. Registry. Labor rates are estimated at $85 per work-hour. Based on these numbers, the FAA estimates the following costs to comply with this AD.

Amending the existing RFM for your helicopter takes about 0.5 work-hour, for an estimated cost of $43 per helicopter and $40,162 for the U.S. fleet.

Installing or replacing a placard takes about 0.2 work-hour and parts cost about $20, for a cost of $37 per helicopter.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2013-20-13, Amendment 39-17619 (78 FR 66252, November 5, 2013); and

b. Adding the following new AD:

2021-11-01 Bell Textron Canada Limited: Amendment 39-21563; Docket No. FAA-2020-1175; Product Identifier 2018-SW-071-AD.

(a) Effective Date

This airworthiness directive (AD) is effective July 15, 2021.

(b) Affected ADs

This AD replaces AD 2013-20-13, Amendment 39-17619 (78 FR 66252, November 5, 2013).

(c) Applicability

This AD applies to the following Bell Textron Canada Limited (Bell) helicopters, certificated in any category:

(1) Bell Model 206B, serial number (S/N) 004 through 4690 inclusive, including helicopters converted from Model 206A; and

Note 1 to paragraph (c)(1): Helicopters with a 206B3 designation are Model 206B helicopters.

(2) Bell Model 206L, S/N 45001 through 45153 inclusive, and 46601 through 46617 inclusive.

(d) Subject

Joint Aircraft Service Component (JASC) Code: 7250, Turbine Section.

(e) Unsafe Condition

This AD defines the unsafe condition as a third stage turbine vibration. This condition could result in turbine failure, engine power loss, and subsequent loss of control of the helicopter.

(f) Compliance

Comply with this AD within the compliance times specified, unless already done.

(g) Required Actions

Within 25 hours time-in-service after the effective date of this AD:

(1) For Bell Model 206B helicopters:

(i) Revise the existing Rotorcraft Flight Manual (RFM) for your helicopter by inserting Section 1, Operating Limitations, page 1-2A, of Bell Model 206B RFM BHT-206B-FM-1, Revision B-54, dated May 30, 2018 (BHT-206B-FM-1) or Section 1, Limitations, page 1-5, of Bell Model 206B3 RFM BHT-206B3-FM-1, Revision 17, dated May 30, 2018 (BHT-206B3-FM-1), as applicable to your helicopter. Inserting a different document with “Steady-state operation” information identical to page 1-2A of BHT-206B-FM-1 or page 1-5 of BHT-206B3-FM-1, as applicable to your helicopter, is acceptable for compliance with the requirements of this paragraph.

(ii) Revise the existing RFM for your helicopter by inserting Section 2, Normal Procedures, page 2-8 of BHT-206B-FM-1 or Section 2, Normal Procedures, page 2-10 of BHT-206B3-FM-1, as applicable to your helicopter. Inserting a different document with “Continuous Operation” information identical to page 2-8 of BHT-206B-FM-1 or page 2-10 of BHT-206B3-FM-1, as applicable to your helicopter, is acceptable for compliance with the requirements of this paragraph.

(iii) Remove placard part number (P/N) 230-075-213-121, if installed.

(iv) Install placard P/N 230-075-213-129 or placard P/N 230-075-213-131 on the instrument panel directly below the dual tachometer.

(2) For Bell Model 206L helicopters:

(i) Revise the existing RFM for your helicopter by inserting Section 1, Operating Limitations, page 1-4B, of Bell Model 206L RFM BHT-206L-FM-1, Revision 31, dated May 30, 2018 (BHT-206L-FM-1). Inserting a different document with “Steady-state operation” information identical to page 1-4B of BHT-206L-FM-1 is acceptable for compliance with the requirements of this paragraph.

(ii) Revise the existing RFM for your helicopter by inserting Section 2, Normal Procedures, page 2-10 of BHT-206L-FM-1. Inserting a different document with “Continuous Operation” information identical to page 2-10 of BHT-206L-FM-1 is acceptable for compliance with the requirements of this paragraph.

(iii) Remove placard P/N 230-075-213-123, if installed.

(iv) Install placard P/N 230-075-213-129 or placard P/N 230-075-213-131 on the instrument panel below the dual tachometer.

(h) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (i)(1) of this AD. Information may be emailed to: 9-AVS-AIR-730-AMOC@faa.gov.

(2) Before using any approved AMOC, notify your appropriate principal inspector, or lacking a principal inspector, the manager of the local flight standards district office/certificate holding district office.

(i) Related Information

(1) For more information about this AD, contact Michael Hughlett, Aviation Safety Engineer, General Aviation & Rotorcraft Section, International Validation Branch, FAA, 10101 Hillwood Pkwy., Fort Worth, TX 76177; telephone (817) 222-5889; email Michael.Hughlett@faa.gov.

(2) Bell Alert Service Bulletin (ASB) 206-07-115, Revision D, for Model 206A and 206B helicopters, and ASB 206L-07-146, Revision C, for Model 206L helicopters, each dated July 9, 2018, which are not incorporated by reference, contain additional information about the subject of this AD. This service information is available at the contact information specified in paragraphs (j)(3) and (4) of this AD.

(3) The subject of this AD is addressed in Transport Canada AD CF-2018-23, dated August 22, 2018. You may view the Transport Canada AD on the internet at https://www.regulations.gov in Docket No. FAA-2020-1175.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) Page 1-2A of Section 1, Operating Limitations, and page 2-8 of Section 2, Normal Procedures, of Bell Model 206B Rotorcraft Flight Manual (RFM) BHT-206B-FM-1, Revision B-54, dated May 30, 2018.

(ii) Page 1-5 of Section 1, Limitations, and page 2-10 of Section 2, Normal Procedures, of Bell Model 206B3 RFM BHT-206B3-FM-1, Revision 17, dated May 30, 2018.

(iii) Page 1-4B of Section 1, Operating Limitations, and page 2-10 of Section 2, Normal Procedures, of Bell Model 206L RFM BHT-206L-FM-1, Revision 31, dated May 30, 2018.

(3) For service information identified in this AD, contact Bell Textron Canada Limited, 12,800 Rue de l'Avenir, Mirabel, Quebec J7J1R4; telephone (450) 437-2862 or (800) 363-8023; fax (450) 433-0272; or at https://www.bellcustomer.com.

(4) You may view this service information at the FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, email: fedreg.legal@nara.gov, or go to: https://www.archives.gov/federal-register/cfr/ibr-locations.html.

Issued on May 12, 2021.
Lance T. Gant,
Director, Compliance & Airworthiness Division, Aircraft Certification Service.

[FR Doc. 2021-12040 Filed 6-9-21; 8:45 am]

BILLING CODE 4910-13-P